DEPARTMENT OF THE TREASURY

Submission for OMB Review; Comment Request

August 20, 2012.

The Department of the Treasury will submit the following information collection request to the Office of Management and Budget (OMB) for review and clearance in accordance with the Paperwork Reduction Act of 1995, Public Law 104-13, on or after the date of publication of this notice.

DATES: Comments should be received on or before September 24, 2012 to be assured of consideration.

ADDRESSES: Send comments regarding the burden estimate, or any other aspect of the information collection, including suggestion for reducing the burden, to the (1) Office of Information and Regulatory Affairs, Office of Management and Budget, Attention: Desk Officer for Treasury, New Executive Office Building, Room 10235, Washington, DC 20503, or email at OIRA_Submission@OMB.EOP.GOV and to the (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Alcohol and Tobacco Tax and Trade Bureau (TTB)

OMB Number: 1513-0087.

Type of Review: Extension without change of a currently approved collection.

Title: Labeling and Advertising Requirements Under the Federal Alcohol Administration Act.

Abstract: Bottlers and importers of alcohol beverages must adhere to numerous performance standards for statements made on labels and in advertisements of alcohol beverages. These performance standards include minimum mandatory labeling and advertising statements.

Affected Public: Private Sector: Businesses or other for-profits.

Estimated Total Burden Hours: 7,071.

OMB Number: 1513-0114.

Type of Review: Extension without change of a currently approved collection.

Title: Beer for Exportation.

Form: TTB F 5130.12.

Abstract: Unpaid beer may be removed from a brewery for exportation without payment of the excise tax normally due on removal. In order to ensure that exportation took place as claimed and that untaxpaid beer does not reach the domestic market TTB requires certification on Form 5130.12.

Affected Public: Private Sector: Businesses or other for-profits.

Estimated Total Burden Hours: 5,940.

OMB Number: 1513-0115.

Type of Review: Extension without change of a currently approved collection.

Title: Usual and Customary Business Records Relating to Wine TTB REC 5120/1.

Abstract: TTB routinely inspects wineries' usual and customary business records to ensure the proper payment of wine excise taxes due to the Federal government.

Affected Public: Private Sector: Businesses or other for-profits.

Estimated Total Burden Hours: 468.

OMB Number: 1513-0116.

Type of Review: Extension without change of a currently approved collection.

Title: Bond for Drawback Under 26 U.S.C. 5131.

Form: TTB F 5154.3.

Abstract: Business that use taxpaid alcohol to manufacture nonbeverage products may file a claim for drawback (refund or remittance). Claims may be filed monthly or quarterly. Monthly claimants must file a bond on TTB F 5154.3 to protect the Government's interest.

Affected Public: Private Sector: Businesses or other for-profits.

Estimated Total Burden Hours: 10.

OMB Number: 1513-0121.

Type of Review: Extension without change of a currently approved collection.

Title: Labeling of Major Food Allergens.

Abstract: The collection of information involves voluntary labeling of major food allergens used in the production of alcohol beverages and also involves petitions for exemption from full allergen labeling. The collection corresponds to the amendments to the FD&C Act in Title II of Public Law 108-282, 118 Stat. 905.

Affected Public: Private Sector: Businesses or other for-profits.

Estimated Total Burden Hours: 730.

Dawn D. Wolfgang,
Treasury PRA Clearance Officer.

[FR Doc. 2012-20747 Filed 8-22-12; 8:45 am]

BILLING CODE 4810-31-P